DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: California Recreational Groundfish Survey.

OMB Control Number: None.

Form Number(s): NA.

Type of Request: Regular submission (request for a new information collection).

Number of Respondents: 1,500.

Average Hours per Response: 25 minutes.

Burden Hours: 208.

Needs and Uses: The National Marine Fisheries Service (NMFS) plans to collect data to increase the agency's understanding of California saltwater angler preferences relative to Pacific groundfish. Pacific groundfish caught in California's recreational fishery include about 17 species of rockfish, as well as lingcod, cabezon, and California scorpionfish. The number and diversity of species caught in this fishery poses a regulatory challenge for State and Federal fisheries managers. Information to be collected pertains to anglers' recreational saltwater fishing activities in California (including groundfish); their attitudes and preferences regarding particular groundfish species and groundfish regulations; and angler demographics. The data collected will provide NMFS, as well as state agency partners such as the California Department of Fish and Wildlife (CDFW), with information useful for understanding current groundfish fishing behavior and possible responses to potential regulatory changes.

Affected Public: Individuals or households.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: September 26, 2013.
Gwellnar Banks,
Management Analyst, Office of the Chief Information Officer.

[FR Doc. 2013-24022 Filed 10-1-13; 8:45 am]

BILLING CODE 3510-22-P